DEPARTMENT OF COMMERCE

International Trade Administration

[A-533-843]

Certain Lined Paper Products From India: Notice of Extension of Time Limit for the Final Results of Antidumping Duty Administrative Review

AGENCY: Import Administration, International Trade Administration, Department of Commerce.

FOR FURTHER INFORMATION CONTACT: Stephanie Moore or George McMahon, AD/CVD Operations, Office 3, Import Administration, International Trade Administration, U.S. Department of Commerce, 14th Street and Constitution Ave. NW., Washington, DC 20230; telephone: (202) 482-3692 or (202) 482-1167, respectively.

Background

On October 28, 2010, the Department of Commerce (“the Department”) published a notice of initiation of the administrative review of the antidumping duty order on certain lined paper products from India.¹

¹ See Initiation of Antidumping and Countervailing Duty Administrative Reviews, 75 FR 66349 (October 28, 2010).

On October 7, 2011, the Department published the preliminary results of this review.² The final results of this review are currently due no later than February 6, 2012.³

² See Certain Lined Paper Products from India: Notice of Preliminary Results of Antidumping Duty Administrative Review, 76 FR 62343 (October 7, 2011).

³ As the due date of February 4, 2012, is a weekend, the due date falls on the next business day of February 6, 2012.

Extension of Time Limit of the Final Results

Section 751(a)(3)(A) of the Tariff Act of 1930, as amended (“the Act”), requires the Department to issue the final results of a review within 120 days after the date on which the preliminary results are published. However, if it is not practicable to complete the review within that time period, section 751(a)(3)(A) of the Act allows the Department to extend the time limit for the final results to a maximum of 180 days. See also 19 CFR 351.213(h)(2).

We determine that completion of the final results of this review within the original time limit is not practicable. The Department rejected a rebuttal brief from the respondent, Navneet Publications (India) Limited (“Navneet”), due to untimely filed new factual information and received a revised brief on December 23, 2011.⁴ Additional time is required by the Department in order to analyze and evaluate all of the issues raised by the parties based on the final version of the brief recently submitted on the record of this proceeding. Accordingly, the Department is extending the time limit for the final results by 30 days. The final results are now due no later than March 5, 2012.

⁴ See the Department's letter to Navneet, titled “Rejection of Rebuttal Brief with Untimely Filed New Factual Information,” dated December 16, 2011; see also Memo from George McMahon to the File titled, “Rejection of Submission Due to Untimely Filed New Factual Information,” dated December 16, 2011.

This extension is in accordance with section 751(a)(3)(A) of the Act and 19 CFR 351.213(h)(2). This notice is published pursuant to sections 751(a)(1) and 777(i)(1) of the Act.

Dated: January 30, 2012.
Christian Marsh,
Deputy Assistant Secretary for Antidumping and Countervailing Duty Operations.

[FR Doc. 2012-2508 Filed 2-2-12; 8:45 am]

BILLING CODE 3510-DS-P